NUCLEAR REGULATORY COMMISSION

[Docket No. 50-331; NRC-2013-0022]

Duane Arnold Energy Center; Application for Amendment to Facility Operating License

AGENCY: Nuclear Regulatory Commission.

ACTION: License amendment application; withdrawal.

ADDRESSES: Please refer to Docket ID NRC-2013-0022 when contacting the NRC about the availability of information regarding this document. You may access information related to this document, which the NRC possesses and are publicly available, using any of the following methods:

• Federal Rulemaking Web site: Go to http://www.regulations.gov and search for Docket ID NRC-2013-0022. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Karl D. Feintuch, Project Manager, Office of Nuclear Reactor Regulation, U.S. Nuclear Regulatory Commission, Washington, DC 20555; telephone: 301-415-3079; email: karl.feintuch@nrc.gov.

SUPPLEMENTARY INFORMATION: The U.S. Nuclear Regulatory Commission (NRC) has granted the request of NextEra Energy Duane Arnold, LLC (the licensee) to withdraw its March 22, 2012, application (ADAMS Accession No. ML12082A105) for proposed amendment to Renewed Facility Operating License No. DPR-49 for the Duane Arnold Energy Center, located in Iowa, Linn County.

The proposed amendment would have revised the technical specifications regarding the battery terminal and charger voltages and amperage provided in surveillance requirements (SR) SR 3.8.4.1 and SR 3.8.4.6.

The Commission had previously issued a Notice of Consideration of Issuance of Amendment published in the Federal Register on October 30, 2012 (77 FR 65724). However, by letter dated November 16, 2012, the licensee withdrew the proposed change.

For further details with respect to this action, see the application for amendment dated March 22, 2012, and the licensee's letter dated November 16, 2012, which withdrew the application for the license amendment (ADAMS Accession No. ML12321A435).

Dated at Rockville, Maryland, this 24th day of January 2013.
For the Nuclear Regulatory Commission.
Karl Feintuch,
Project Manager, Plant Licensing Branch III-1, Division of Operating Reactor Licensing, Office of Nuclear Reactor Regulation.

[FR Doc. 2013-02340 Filed 2-1-13; 8:45 am]

BILLING CODE 7590-01-P